DEPARTMENT OF AGRICULTURE

Forest Service

Nez Perce-Clearwater National Forests; Id; Crooked River Valley Rehabilitation Project

Correction

In notice document 2012-29836 appearing on pages 73976-73978 in the issue of Wednesday, December 12, 2012, make the following corrections:

1. On page 73977, in the first column, on the ninth and tenth lines, “comments-northernnezperce-red-river@fsled.us” should read “comments-northern-nezperce-red-river@fs.fed.us”.

2. On the same page, in the same column, in the thirty-fourth through thirty-sixth lines, “http://www.fs.fed.usinepa/fs-usda-pop.php/?project=40648” should read “http://www.fs.fed.us/nepa/fs-usda-pop.php/?project=40648”.

[FR Doc. C1-2012-29836 Filed 1-8-13; 8:45 am]

BILLING CODE 1505-01-D